DEPARTMENT OF TRANSPORTATION

Federal Highway Administration

Environmental Impact Statement: Deschutes County, OR

AGENCY: Federal Highway Administration (FHWA), DOT.

ACTION: Notice of intent.

SUMMARY: The Federal Highway Administration (FHWA) is issuing this notice of intent to advise agencies and the public than an Environmental Impact Statement (EIS) will be prepared to assess the impacts of proposed modifications to U.S. 97 in Deschutes County, Oregon.

DATES: A public scoping meeting will be held Thursday, January 24, 2008, at the Sky View Middle School Commons 63555 18th Street, Bend, Oregon 97701. The public scoping meeting will include an informational presentation from 5 p.m. to 6 p.m. The informational presentation will be followed by a question and answer period and a general open house from 6 p.m. until 8:30 p.m. An agency scoping meeting will be held on January 10, 2008, at ODOT Region 4, Construction Office Conference Room, 63030 O.B. Riley Road, Bend, Oregon 97701. The agency scoping meeting will be from 1 p.m. to 3:30 p.m.

FOR FUTHER INFORMATION CONTACT: Ms. Michelle Eraut, Environmental Program Manager, Federal Highway Administration, 530 Center Street, NE., Suite 100, Salem, Oregon 97301; telephone 503-587-4716.

SUPPLEMENTARY INFORMATION: The FHWA, in cooperation with the Oregon Department of Transportation (ODOT), will prepare an EIS for the proposed modifications to U.S. 97 in Deschutes County, Oregon. The proposed improvements may involve the reconstruction or realignment of the existing U.S. 97 roadway between the Bend Parkway/Empire Avenue and Deschutes Market Road-Tumalo Junction interchanges.

Improvements to the corridor are considered necessary to meet the mobility standards and facility management goals consistent with U.S. 97's designation as a statewide expressway, address current and future transportation demand, and improve safety along the corridor including the intersections of U.S. 97 with Cooley and Robal Roads. Current traffic volumes exceed roadway capacity. Traffic is expected to increase 20 to 40% by 2032. The intersections of U.S. 97 with Cooley and Robal Roads are in the top 5 percent of crash locations on state highways within Oregon.

The northern portion of the project is located in a predominately rural area. Lands on the eastern side of the highway are being considered for inclusion into the City of Bend's Urban Growth Boundary. The middle portion of the project begins the transition from rural to urban uses, with the number of accesses increasing. Access to rural residential uses are located on the west side of the highway and access to two mobile home parks are located on the eastern side of the highway. The southern portion of the project is within a high-growth urban commercial setting with regional big box retail uses and a large retail mall on the west side of the highway. Smaller regional and local retail and manufacturing businesses are on the east side of the highway.

The EIS will identify transportation needs and deficiencies in the project study area, including safety, mobility, access, safety, system linkages and continuity. The range of alternatives evaluated in the EIS will be developed to meet the identified purpose and need. Potential alternatives and combinations thereof may include, but are not limited to: (1) No action; (2) reroute U.S. 97 on a westerly alignment; and (3) reroute U.S. 973 on an easterly alignment. Design variations of potential alternatives will also be studied, as appropriate. A refinement plan for U.S. 97 & U.S. 20 was completed in May 2007. Information from the refinement plan may be utilized as appropriate in the development of this EIS.

The EIS will be initiated with a scoping process. The scoping process will include a program of public outreach and agency coordination conducted over the next several months to elicit input of project purpose and need, potential alternatives, significant and insignificant issues, and collaborative methods of analyzing transportation alternatives and environmental impacts.

A series of public, agency and tribal meetings will be held in early 2008 and continue throughout the development of the EIS. The public outreach program will include multiple public meetings conducted by ODOT as well as coordination with the Technical Management Team, the Citizens Advisory Committee and the Project Steering Team. The Technical Management Team is comprised of technical representatives from ODOT, the City of Bend, Deschutes County and the Oregon Department of Land Conservation and Development. The Citizens Advisory Committee is comprised of the public representing neighborhood and business interests in the project areas. The Project Steering Team is comprised of policy representatives from ODOT, the City of Bend and Deschutes County.

A public hearing will be held in connection with the release of the draft EIS. Public notice will be given regarding the time and place of the public meetings and hearings. An internet website has been established at: http://www.US97solutions.org and will be operational beginning January 10, 2008. This website and other communication media will be utilized throughout the process to provide public information and to receive comments. All comments and input received during the EIS process will be considered and documented.

The FHWA and ODOT will evaluate significant transportation, environmental, social and economic impacts of the project alternatives. Potential areas of impact include: neighborhoods, businesses, natural resources and environmental justice. Measures to avoid, minimize and mitigate any significant adverse impacts will be developed.

Comments and suggestions are invited from all interested parties, to ensure that the full range of issues related to this project are addressed and all significant issues are identified. Comments or questions regarding the proposed action and the EIS should be directed to the FHWA at the address provided above.

Authority: 23 U.S.C. 315.

Issued on: December 18, 2007.
Michelle Eraut,
Environmental Program Manager, Salem, Oregon.

[FR Doc. E7-25023 Filed 12-26-07; 8:45 am]

BILLING CODE 4910-22-P